DEPARTMENT OF COMMERCE

National Institute of Standards and Technology

Proposed Information Collection; Comment Request; Hollings Manufacturing Extension Partnership (HMEP) Program Application Requirements

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 1, 2012.

ADDRESSES: Direct all written comments to Jennifer Jessup, Departmental Paperwork Clearance Officer, Department of Commerce, Room 6625, 14th and Constitution Avenue NW., Washington, DC 20230 (or via the Internet at jjessup@doc.gov.)

FOR FURTHER INFORMATION CONTACT: Requests for additional information or copies of the information collection instrument and instructions should be directed to Diane Henderson at 301-975-5105 or by email at Diane.Henderson@nist.gov.

SUPPLEMENTARY INFORMATION:

I. Abstract

The objective of NIST HMEP centers is to enhance productivity, technological performance, and strengthen the global competitiveness of small- and medium-sized U.S. based manufacturing firms.

Manufacturing extension centers are part of the HMEP national system of extension service providers. Currently, the HMEP national system consists of over 400 centers and field offices located throughout the United States and Puerto Rico. Information regarding HMEP and these centers is available on-line at http://www.nist.gov/mep/.

The objective of the projects funded under this program is to provide manufacturing extension services to primarily small- and medium-sized manufacturers in the United States. These services are provided through the coordinated efforts of a regionally-based manufacturing extension center and local technology resources.

The focus of a center is to provide those manufacturing extension services required by the small- and medium-sized manufacturers in its service region utilizing the most cost effective, local, leveraged resources for those services. It is not the intent of this program that the centers perform research and development.

This request is for the information collection requirements associated with submission of proposals for NIST HMEP funding. The intent of the collection is to meet statutory requirements for NIST HMEP, as well as compliance with 15 U.S.C. 278k, as implemented in 15 CFR Part 290.

II. Method of Collection

Paper or electronically via www.grants.gov.

III. Data

OMB Control Number: 0693-0056.

Form Number: None.

Type of Review: Regular submission

Affected Public: U.S.-based not-for-profit institutions or organizations (universities, state and local governments); consortia of non-profit institutions.

Estimated Number of Respondents: 12.

Estimated Time per Response: 112 hours.

Estimated Total Annual Burden Hours: 1,344.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 26, 2012.
Gwellnar Banks,
Management Analyst, Office of the Chief Information Officer.

[FR Doc. 2012-18706 Filed 7-31-12; 8:45 am]

BILLING CODE 3510-13-P